DEPARTMENT OF JUSTICE

Federal Bureau of Investigation

[OMB Number 1110-NEW]

Agency Information Collection Activities; Proposed eCollection eComments Requested; New Collection

AGENCY: Laboratory Division-RSU, Federal Bureau of Investigation, Department of Justice.

ACTION: 30-Day notice.

SUMMARY: The Laboratory Division-RSU, Federal Bureau of Investigation, Department of Justice is submitting the following information collection request to the Office of Management and Budget (OMB) for review and approval in accordance with the Paperwork Reduction Act of 1995.

DATES: The Department of Justice encourages public comment and will accept input until November 7, 2022.

FOR FURTHER INFORMATION CONTACT: If you have additional comments especially on the estimated public burden or associated response time, suggestions, or need a copy of the proposed information collection instrument with instructions or additional information, please contact Libby Stern, Research Chemist, Federal Bureau of Investigation Laboratory Division, Research and Support Unit, 2501 Investigation Ave, Quantico, VA 22135, geophysics@fbi.gov, 703-632-7825. Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the [Federal Bureau of Investigation], including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: New collection.

2. The Title of the Form/Collection: Geophysical Service Providers in Support of Law Enforcement.

3. The agency form number, if any, and the applicable component of the Department sponsoring the collection:

Agency Form Number: FBI IRB number 646-22.

Sponsor: Laboratory Division-RSU, Federal Bureau of Investigation, Department of Justice.

4. Affected public who will be asked or required to respond, as well as a brief abstract: Individuals, Private Sector, Federal Government, State, Local or Trial Government. Those completing the questionnaires are personnel from universities, government agencies, instrument manufacturer and private contractors who conduct near surface geophysical investigations in aid of law enforcement. The FBI Laboratory Division seeks to gather information on the applications of geophysical methods (such as ground penetrating radar, electrical resistivity, magnetometry . . . etc.) to detect concealed targets as part of a criminal investigations.

Abstract: This questionnaire will ask which geophysical methodologies were applied, who performed the geophysical investigation, suspected targets, environments of the geophysical surveys for summaries of 1 to 3 geophysical surveys. The results may be published and used to understand practical uses of geophysical methods for law enforcement investigations.

5. An estimate of the total number of respondents and the amount of time estimated for an average respondent to respond: We expect no more than 100 individuals completing the questionnaire. On average we expect an average of 10-15 minutes to complete the questionnaire.

6. An estimate of the total public burden (in hours) associated with the collection: 25 hours.

If additional information is required contact: Robert Houser, Department Clearance Officer, Policy and Planning Staff, Justice Management Division, United States Department of Justice, Two Constitution Square, 145 N Street NE, 3E.206, Washington, DC 20530.

Dated: September 30, 2022.
Robert Houser,
Department Clearance Officer for PRA, Policy and Planning Staff, Office of the Chief Information Officer, U.S. Department of Justice.

[FR Doc. 2022-21715 Filed 10-5-22; 8:45 am]

BILLING CODE 4410-02-P